DEPARTMENT OF COMMERCE

International Trade Administration

C-533-825

Notice of Extension of Time Limit for Final Results of Administrative Review: Polyethylene Terephthalate (PET) Film from India

AGENCY: Import Administration, International Trade Administration, U.S. Department of Commerce.

EFFECTIVE DATE: December 4, 2006.

FOR FURTHER INFORMATION CONTACT: Elfi Blum, Nicholas Czajkowski, or Toni Page, AD/CVD Operations, Import Administration, International Trade Administration, U.S. Department of Commerce, 14th Street and Constitution Avenue, NW, Washington DC 20230; telephone: (202) 482-0197, (202) 482-1395, or (202) 482-1398, respectively.

SUPPLEMENTARY INFORMATION:

Background

On August 8, 2006, the Department of Commerce (the Department) published in the Federal Register the preliminary results of the administrative review of the countervailing duty order on polyethylene terephthalate (PET) film from India. See Notice of Preliminary Results and Rescission, in Part, of Countervailing Duty Administrative Review: Polyethylene Terephthalate Film, Sheet, and Strip from India, 71 FR 45037 (August 8, 2006). The current deadline for the final results of review is December 6, 2006.

Extension of Time Limits for Final Results of Review

Section 751(a)(3)(A) of the Tariff Act of 1930, as amended (the Act), requires the Department to issue the final results of the review within 120 days after the date on which notice of the preliminary results were published in the Federal Register. However, if it is not practicable to complete the review within this time period, section 751(a)(3)(A) of the Act allows the Department to extend the time limit for the final results to 180 days from the date of publication of the preliminary results.

The Department finds that it is not practicable to complete the review within the original time frame due to the complex nature of the case. As this case involves a large number of programs under review, the Department needs additional time to review information gathered at verification and to give parties time to submit subsequent comments. Consequently, in accordance with section 751(a)(3)(A) of the Act and section 351.213(h)(2) of the Department's regulations, the Department is extending the deadline for completion of the final results of the administrative review by 60 days. As the 180th day falls on a Sunday, the final results will now be due no later than February 5, 2007.

This notice is published pursuant to sections 751(a)(1) and 777(i)(1) of the Act.

Dated: November 28, 2006.
Stephen J. Claeys,
Deputy Assistant Secretary for Import Administration.

[FR Doc. E6-20467 Filed 12-1-06; 8:45 am]

Billing Code: 3510-DS-S